DEPARTMENT OF LABOR

Employment and Training Administration

[TA-W-61,555]

National Braid Manufacturing Co., Also Known As Long Island City Trim, Long Island City, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on June 15, 2007, applicable to workers of National Braid Manufacturing Co., Long Island City, New York. The notice was published in the Federal Register on June 28, 2007 (72 FR 35516).

At the request of the State agency, the Department reviewed the certification for workers of the subject firm. The workers were engaged in the production of trimmings for textiles.

New information shows that the correct name of the subject firm should read National Braid Manufacturing Co., also known as Long Island City Trim. Workers separated from employment at the subject firm had their wages reported under a separate unemployment insurance (UI) tax accounts for National Braid Manufacturing Co., also known as Long Island City Trim.

Accordingly, the Department is amending this certification to correctly identify the name of the subject firm.

The intent of the Department's certification is to include all workers of National Braid Manufacturing Co., Long Island City, New York, who were adversely affected by increased company imports of trimmings for textiles.

The amended notice applicable to TA-W-61,555 is hereby issued as follows:

“All workers of National Braid Manufacturing Co., also known as Long Island City Trim, Long Island City, New York, who became totally or partially separated from employment on or after May 15, 2006, through June 15, 2009, are eligible to apply for adjustment assistance under Section 223 of the Trade Act of 1974, and are also eligible to apply for alternative trade adjustment assistance under Section 246 of the Trade Act of 1974.”

Signed at Washington, DC this 23rd day of October 2007.
Linda G. Poole,
Certifying Officer, Division of Trade Adjustment Assistance.

[FR Doc. E7-21186 Filed 10-25-07; 8:45 am]

BILLING CODE 4510-FN-P